DEPARTMENT OF TRANSPORTATION

Federal Aviation Administration

14 CFR Part 39

[Docket No. FAA-2004-19200; Directorate Identifier 2003-NM-195-AD; Amendment 39-13927; AD 2005-01-03]

RIN 2120-AA64

Airworthiness Directives; Boeing Model 747-100, -100B, -100B SUD, -200B, -200C, -200F, and -300 Series Airplanes; and Model 747SP and 747SR Series Airplanes; Equipped With Pratt & Whitney JT9D-3 and -7 (Except -70) Series Engines or General Electric CF6-50 Series Engines With Modified JT9D-7 Inboard Struts

AGENCY: Federal Aviation Administration (FAA), DOT.

ACTION: Final rule.

SUMMARY: The FAA is adopting a new airworthiness directive (AD) for certain Boeing airplanes listed above. This AD requires repetitive detailed inspections of the midspar web of the inboard and/or outboard struts for cracking, disbonding, or buckling; repetitive detailed inspections of the midspar stiffeners for any crack or fracture; related investigative actions; and corrective actions, if necessary. This AD is prompted by reports of cracking in the midspar web. We are issuing this AD to detect and correct cracking in the midspar assembly, which could result in the loss of the midspar assembly load path, and could, combined with the loss of the nacelle station 180 bulkhead load path, lead to the separation of the engine from the airplane.

DATES: This AD becomes effective February 9, 2005.

The incorporation by reference of a certain publication listed in the AD is approved by the Director of the Federal Register as of February 9, 2005.

ADDRESSES: For service information identified in this AD, contact Boeing Commercial Airplanes, P.O. Box 3707, Seattle, Washington 98124-2207. You can examine this information at the National Archives and Records Administration (NARA). For information on the availability of this material at NARA, call (202) 741-6030, or go to: http://www.archives.gov/federal_register/code_of_federal_regulations/ibr_locations.html.

You can examine the contents of this AD docket on the Internet at http://dms.dot.gov, or in person at the Docket Management Facility, U.S. Department of Transportation, 400 Seventh Street SW., room PL-401, on the plaza level of the Nassif Building, Washington, DC. This docket number is FAA-2004-19200; the directorate identifier for this docket is 2003-NM-195-AD.

FOR FURTHER INFORMATION CONTACT: Candice Gerretsen, Aerospace Engineer, Airframe Branch, ANM-120S, FAA, Seattle Aircraft Certification Office, 1601 Lind Avenue, SW., Renton, Washington 98055-4056; telephone (425) 917-6428; fax (425) 917-6590.

Examining the Docket

The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section.

SUPPLEMENTARY INFORMATION: The FAA proposed to amend 14 CFR Part 39 with an AD for certain Boeing Model 747-100, -100B, -100B SUD, -200B, -200C, -200F, and -300 series airplanes; and Model 747SP and 747SR series airplanes; equipped with Pratt & Whitney JT9D-3 and -7 (except -70) series engines or General Electric CF6-50 series engines with modified JT9D-7 inboard struts. That action, published in the Federal Register on September 29, 2004 (69 FR 58101), proposed to require repetitive detailed inspections of the midspar web of the inboard and/or outboard struts for cracking, disbonding, or buckling; repetitive detailed inspections of the midspar stiffeners for any crack or fracture; related investigative actions; and corrective actions, if necessary.

Comments

We provided the public the opportunity to participate in the development of this AD. We have considered the comment that has been submitted on the proposed AD. The commenter, the manufacturer, supports the proposed AD.

Conclusion

We have carefully reviewed the available data, including the comment that has been submitted, and determined that air safety and the public interest require adopting the AD as proposed.

Costs of Compliance

There are about 228 airplanes of the affected design worldwide and 78 airplanes of U.S. registry. The actions will take about 6 to 13 work hours per airplane, at an average labor rate of $65 per work hour. Based on these figures, the estimated cost of the AD for U.S. operators is between $30,420 and $65,910, or between $390 and $845 per airplane, per inspection cycle.

Authority for This Rulemaking

The FAA's authority to issue rules regarding aviation safety is found in Title 49 of the United States Code. Subtitle I, Section 106, describes the authority of the FAA Administrator. Subtitle VII, Aviation Programs describes in more detail the scope of the agency's authority.

This rulemaking is promulgated under the authority described in Subtitle VII, Part A, Subpart III, Section 44701, “General requirements.” Under that section, the FAA is charged with promoting safety flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act. We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-01-03 Boeing: Amendment 39-13927. Docket No. FAA-2004-19200; Directorate Identifier 2003-NM-195-AD.

Effective Date

(a) This AD becomes effective February 9, 2005.

Affected ADs

(b) None.

Applicability

(c) This AD applies to Boeing Model 747-100, -100B, -100B SUD, -200B, -200C, -200F, and -300 series airplanes; and Model 747SP and 747SR series airplanes; certificated in any category; equipped with Pratt & Whitney JT9D-3, and -7 (except -70) series engines or General Electric CF6-50 series engines with modified JT9D-7 inboard struts; as listed in Boeing Alert Service Bulletin 747-54A2219, dated September 4, 2003.

Unsafe Condition

(d) This AD was prompted by reports of cracking in the midspar web. We are issuing this AD to detect and correct cracking in the midspar assembly, which could result in the loss of the midspar assembly load path, and could, combined with the loss of the nacelle station 180 bulkhead load path, lead to the separation of the engine from the airplane.

Compliance

(e) You are responsible for having the actions required by this AD performed within the compliance times specified, unless the actions have already been done.

Compliance Times

(f) Within 18 months after the effective date of this AD, do the actions in paragraphs (g) and (h) of this AD, as applicable. Repeat the actions thereafter at intervals not to exceed 1,200 flight cycles.

Inboard Strut Midspar Inspection

(g) For Group 1 and 2 airplanes specified in paragraph 1.A.1. of Boeing Alert Service Bulletin 747-54A2219, dated September 4, 2003: Perform a detailed inspection of the midspar web of the inboard struts for cracking, disbonding, or buckling; a detailed inspection of the midspar stiffeners for any crack or fracture; related investigative actions; and any applicable corrective actions; in accordance with “Part 1” of the Work Instructions of Boeing Alert Service Bulletin 747-54A2219, dated September 4, 2003; except as required by paragraph (i) of this AD. Perform any related investigative actions and any applicable corrective actions before further flight.

Outboard Strut Midspar Inspection

(h) For Group 1 airplanes specified in paragraph 1.A.1. of Boeing Alert Service Bulletin 747-54A2219, dated September 4, 2003: Perform a detailed inspection of the midspar web of the outboard struts for cracking, disbonding, or buckling; a detailed inspection of the midspar stiffeners for any crack or fracture; related investigative actions; and any applicable corrective actions; in accordance with “Part 2” of the Work Instructions of Boeing Alert Service Bulletin 747-54A2219, dated September 4, 2003; except as required by paragraph (i) of this AD. Perform any related investigative actions and any applicable corrective actions before further flight.

Contact the FAA/Designated Engineering Representative (DER)

(i) Where Boeing Alert Service Bulletin 747-54A2219, dated September 4, 2003, specifies to contact Boeing for appropriate action: Before further flight, repair per a method approved by the Manager, Seattle Aircraft Certification Office (ACO), FAA; or per data meeting the type certification basis of the airplane approved by a Boeing Company DER who has been authorized by the Manager, Seattle ACO, to make such findings. For a repair method to be approved, the approval must specifically reference this AD.

Alternative Methods of Compliance (AMOCs)

(j)(1) The Manager, Seattle ACO, FAA, has the authority to approve AMOCs for this AD, if requested in accordance with the procedures found in 14 CFR 39.19.

(2) An AMOC that provides an acceptable level of safety may be used for any repair required by this AD, if it is approved by a Boeing Company DER who has been authorized by the Manager, Seattle ACO, to make those findings. For a repair method to be approved, the approval must specifically refer to this AD.

Material Incorporated by Reference

(k) You must use Boeing Alert Service Bulletin 747-54A2219, dated September 4, 2003, to perform the actions that are required by this AD, unless the AD specifies otherwise. The Director of the Federal Register approves the incorporation by reference of this document in accordance with 5 U.S.C. 552(a) and 1 CFR part 51. For copies of the service information, contact Boeing Commercial Airplanes, P.O. Box 3707, Seattle, Washington 98124-2207. For information on the availability of this material at the National Archives and Records Administration (NARA), call (202) 741-6030, or go to http://www.archives.gov/federal_register/code_of_federal_regulations/ibr_locations.html.

You may view the AD docket at the Docket Management Facility, U.S. Department of Transportation, 400 Seventh Street SW., room PL-401, Nassif Building, Washington, DC.

Issued in Renton, Washington, on December 27, 2004.
Kevin M. Mullin,
Acting Manager, Transport Airplane Directorate, Aircraft Certification Service.

[FR Doc. 05-105 Filed 1-4-05; 8:45 am]

BILLING CODE 4910-13-P